DEPARTMENT OF AGRICULTURE

Agricultural Marketing Service

7 CFR Part 1255

[Doc. No. AMS-SC-16-0112]

Organic Research, Promotion, and Information Order; Referendum Procedures

AGENCY: Agricultural Marketing Service, USDA.

ACTION: Extension of comment period.

SUMMARY: Notice is hereby given that Agricultural Marketing Service (AMS) is extending the comment period for the proposed rule published in the Federal Register on January 18, 2017 (82 FR 5438), until April 19, 2017. The proposed rule invited comments on the proposed procedures for conducting a referendum to determine whether the issuance of a proposed Organic Research, Promotion, and Information Order (proposed Order) is favored by certified organic producers, certified organic handlers, and importers of certified organic products. The procedures would also be used for any subsequent referendum under the proposed Order. This proposed rule also announced the Agricultural Marketing Service's (AMS) intent to request approval by the Office of Management and Budget (OMB) of new information collection requirements to implement the program. The proposed Order was published separately in the Federal Register on January 18, 2017 (82 FR 5746).

DATES: Comments received by April 19, 2017, will be considered prior to issuance of a final rule.

ADDRESSES: Interested persons are invited to submit written comments concerning this proposal. Comments may be submitted on the Internet at: http://www.regulations.gov or to the Promotion and Economics Division, Specialty Crops Program, AMS, USDA, 1400 Independence Avenue SW., Room 1406-S, Stop 0244, Washington, DC 20250-0244; facsimile: (202) 205-2800. All comments should reference the docket number and the date and page number of this issue of the Federal Register and will be made available for public inspection, including name and address, if provided, in the above office during regular business hours or it can be viewed at http://www.regulations.gov.

Pursuant to the Paperwork Reduction Act (PRA), comments regarding the accuracy of the burden estimate, ways to minimize the burden, including the use of automated collection techniques or other forms of information technology, or any other aspect of this collection of information, should be sent to the above address. In addition, comments concerning the information collection should also be sent to the Desk Office for Agriculture, Office of Information and Regulatory Affairs, OMB, New Executive Office Building, 725 17th Street NW., Room 725, Washington, DC 20503.

FOR FURTHER INFORMATION CONTACT: Heather Pichelman, Division Director, Promotion and Economics Division, Specialty Crops Program, AMS, USDA, 1400 Independence Avenue SW., Room 1406-S, Stop 0244, Washington, DC 20250-0244; facsimile: (202) 205-2800; or electronic mail: Heather.Pichelman@ams.usda.gov.

SUPPLEMENTARY INFORMATION: A proposed rule was published in the Federal Register on January 18, 2017 (82 FR 5438). This proposed action invited comments on a proposed procedures for conducting a referendum to determine whether covered domestic certified organic producers, certified organic handlers and importers of organic products favor issuance of a proposed Order. Accordingly, this proposed rule would add subpart B to part 1255 that would establish procedures for conducting the referendum. The procedures would cover definitions, voting instructions, use of subagents, ballots, the referendum report, and confidentiality of information. The U.S. Department of Agriculture (USDA) would conduct the referendum. The program would be implemented if it is favored by a majority of domestic certified organic producers, certified organic handlers and importers of organic products voting in the referendum. The procedures would be applicable for the initial referendum and future referenda under the proposed Order.

This proposed rule also announced AMS's intent to request approval by the OMB of new information collection requirements to implement the program. The proposed Order was published separately in the Federal Register on January 18, 2017 (82 FR 5746).

The 60-day comment period provided in the proposed rule published in the Federal Register on January 18, 2017 (82 FR 5438) was set to end on March 20, 2017. AMS has extended the end of comment period by 30 days to April 19, 2017 to ensure that interested persons have sufficient time to review and comment on the proposed rule.

Authority: 7 U.S.C. 7411-7425; 7 U.S.C. 7401.

Dated: February 22, 2017.
Bruce Summers,
Acting Administrator, Agricultural Marketing Service.

[FR Doc. 2017-03824 Filed 2-24-17; 8:45 am]

BILLING CODE 3410-02-P